DEPARTMENT OF HEALTH AND HUMAN SERVICES

Centers for Disease Control and Prevention

Disease, Disability, and Injury Prevention and Control Special Emphasis Panel (SEP): Request for Applications To Determine the Pharmacokinetics of Clostridium Botulinum Neurotoxins A, B, C, E, and F, Program Announcement Number 04099

In accordance with section 10(a)(2) of the Federal Advisory Committee Act (Pub. L. 92-463), the Centers for Disease Control and Prevention (CDC) announces the following meeting: Request for Applications To Determine the Pharmacokinetics of Clostridium Botulinum Neurotoxins A, B, C, E, and F, Program Announcement Number 04099.

Name: Disease, Disability, and Injury Prevention and Control Special Emphasis Panel (SEP): Request for Applications to Determine the Pharmacokinetics of Clostridium Botulinum Neurotoxins A, B, C, E, and F, Program Announcement Number 04099.

Times and Dates: 1 p.m.-1:30 p.m., July 29, 2004 (open); 1:30 p.m.-3:30 p.m., July 29, 2004 (closed).

Place: Teleconference number 1-877-951-9728, pass code 362242.

Status: Portions of the meeting will be closed to the public in accordance with provisions set forth in section 552b(c)(4) and (6), title 5 U.S.C., and the Determination of the Director, Management Analysis and Services Office, CDC, pursuant to Public Law 92-463.

Matters to be Discussed: The meeting will include the review, discussion, and evaluation of applications received in response to Program Announcement Number 04099.

Contact Person for More Information: Trudy Messmer, Ph.D., Scientific Review Administrator, National Center for Infectious Diseases, CDC, 1600 Clifton Road, NE., MS-C19, Atlanta, GA 30333, telephone (404) 639-37706.

The Director, Management Analysis and Services Office, has been delegated the authority to sign Federal Register notices pertaining to announcements of meetings and other committee management activities, for both CDC and the Agency for Toxic Substances and Disease Registry.

Dated: July 7, 2004.
Alvin Hall,
Director, Management Analysis and Services Office, Centers for Disease Control and Prevention.

[FR Doc. 04-15792 Filed 7-12-04; 8:45 am]

BILLING CODE 4163-18-P